DEPARTMENT OF DEFENSE

GENERAL SERVICES ADMINISTRATION

NATIONAL AERONAUTICS AND SPACE ADMINISTRATION

[OMB Control No. 9000-00XX; Docket No. 2015-0055; Sequence 49]

Information Collection; Payment to Small Business Subcontractors

AGENCIES: Department of Defense (DoD), General Services Administration (GSA), and National Aeronautics and Space Administration (NASA).

ACTION: Interim rule.

SUMMARY: Under the provisions of the Paperwork Reduction Act, the Regulatory Secretariat Division will be submitting to the Office of Management and Budget (OMB), a request to review and approve a new information collection requirement regarding Payment of Subcontractors.

DATES: Submit comments on or before December 7, 2015.

ADDRESSES: Submit comments identified by Information Collection 9000-00XX, Payment of Subcontractors, by any of the following methods:

• Regulations.gov: http://www.regulations.gov. Submit comments via the Federal eRulemaking portal by searching OMB control number 9000-00XX. Select the link “Comment Now” that corresponds with “Information Collection 9000-00xx, “Payment of Subcontractors”. Follow the instructions provided on the screen. Please include your name, company name (if any), and “Information Collection 9000-00xx, Payment of Subcontractors” on your attached document.

• Mail: General Services Administration, Regulatory Secretariat Division (MVCB), 1800 F Street NW., ATTN: Hada Flowers, Washington, DC 20405.

Instructions: Please submit comments only and cite Information Collection, Payment of Subcontractors, in all correspondence related to this case. All comments received will be posted, without change, to http://www.regulations.gov, including any personal and/or business confidential information provided.

FOR FURTHER INFORMATION CONTACT: Mr. Curtis E. Glover, Sr., Procurement Analyst, GSA, at 202-501-1448.

SUPPLEMENTARY INFORMATION:

A. Purpose

Section 1334 of the Small Business Jobs and Credit Act of 2010 (Pub. L. 111-240) and the Small Business Administration's Final Rule at 78 FR 42391, Small Business Subcontracting, published on July 16, 2013, and effective August 15, 2013, requires the prime contractor to self- report to the contracting officer when the prime contractor makes late or reduced payments to small business subcontractors. In addition, the contracting officer is required to record the identity of contractors with a history of late or reduced payments to small business subcontractors in the Federal Awardee Performance and Integrity Information System (FAPIIS). FAR Part 42 is revised to include in the past performance evaluation reduced or untimely payments reported to the contracting officer by the prime contractor in accordance with the clause at 52.242-XX, Payments to Small Business Subcontractors, that are determined by the contracting officer to be unjustified.

B. Annual Reporting Burden

Respondents: 5457.

Responses per respondent: 1.

Total annual responses: 5457.

Preparation hours per response: 2.

Total response burden hours: 10,914.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20404, telephone 202-501-4755. Please cite OMB Control No. 9000-00xx, Payment of Subcontractors, in all correspondence.

Edward Loeb,
Acting Director, Federal Acquisition Policy Division, Office of Government-wide Acquisition Policy, Office of Acquisition Policy, Office of Government-wide Policy.

[FR Doc. 2015-25297 Filed 10-5-15; 8:45 am]

BILLING CODE 6820-EP-P